Executive Order 13975 of January 14, 2021

Encouraging Buy American Policies for the United States Postal Service

By the authority vested in me as President by the Constitution and the laws of the United States of America, it is hereby ordered as follows:

Section 1. Policy. As expressed in Executive Order 13788 of April 18, 2017 (Buy American and Hire American), Executive Order 13858 of January 31, 2019 (Strengthening Buy-American Preferences for Infrastructure Projects), and Executive Order 13881 of July 15, 2019 (Maximizing Use of American-Made Goods, Products, and Materials), it is the policy of the United States to buy American and to maximize, consistent with law, the use of goods, products, and materials produced in the United States.

Sec. 2. Definitions. As used in this order:

(a) “Buy American” means all policies that require, or provide a preference for, the purchase or acquisition of goods, products, or materials produced in the United States, including iron, steel, and manufactured goods; and

(b) “Buy American Laws” means all statutes, regulations, rules, and Executive Orders relating to Federal procurement or Federal grants—including those that refer to “Buy America” or “Buy American”—that require, or provide a preference for, the purchase or acquisition of goods, products, or materials produced in the United States, including iron, steel, and manufactured goods.

Sec. 3. Purpose. (a) In certain competitive procurements, the United States Postal Service (USPS) currently applies its own Buy American domestic procurement preferences similar to Buy American Laws implemented across executive departments and agencies. Under such circumstances, and as expressed in section 2-36 of the USPS Supplying Principles and Practices (SPP), USPS procurement policies state that:

(i) When the relative importance of price is more important than the other evaluation factors, 6 percent is added to the proposed price of the non-qualifying end product and this adjusted price is used for evaluation; and

(ii) An end product qualifies as manufactured in the United States if the cost of its components mined, produced, or manufactured in the United States exceeds 50 percent of the cost of all its components, similar to domestic content requirements under the Buy American Laws.

(b) Executive Order 13881 required the Federal Acquisition Regulatory Council (FAR Council) to consider proposing new rules in the Federal Acquisition Regulation (FAR), title 48, Code of Federal Regulations, to strengthen Buy American preferential price differentials and domestic content requirements. To ensure consistency across the Federal Government as a whole and to further promote my Administration's Buy American policy goals, USPS is strongly encouraged to consider similar changes to its Buy American domestic procurement preferences.

Sec. 4. Encouraged Rules. Within 90 days of the date of the FAR Council's issuance of any final rule discussed in section 2 of Executive Order 13881, the United States Postmaster General is encouraged to consider:

(a) An amendment or amendments to the applicable sections of the SPP to conform with the FAR provisions regarding price differentials when the relative importance of price is more important than the other evaluation factors; and

(b) An amendment or amendments to the applicable sections of the SPP to conform with the FAR provisions regarding when materials shall be considered to be of foreign origin.

Sec. 5. General Provisions. (a) Nothing in this order shall be construed to impair or otherwise affect:

(i) the authority granted by law to an executive department or agency, or the head thereof;

(ii) the authority granted by law to the USPS, its officers, or its Board of Governors; or

(iii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 14, 2021.

[FR Doc. 2021-01469

Filed 1-19-21; 11:15 am]

Billing code 3295-F1-P